DEPARTMENT OF THE TREASURY

Office of Foreign Assets Control

Additional Designations of Entities Pursuant to Executive Order 13448

AGENCY: Office of Foreign Assets Control, Treasury.

ACTION: Notice.

SUMMARY: The Treasury Department's Office of Foreign Assets Control (“OFAC”) is publishing the names of two newly-designated entities whose property and interests in property are blocked pursuant to Executive Order 13448 of October 18, 2007, “Blocking Property and Prohibiting Certain Transactions Related to Burma.”

DATES: The designation by the Director of OFAC of two entities identified in this notice, pursuant to Executive Orders 13448, is effective February 25, 2008.

FOR FURTHER INFORMATION CONTACT: Assistant Director, Compliance Outreach & Implementation, Office of Foreign Assets Control, Department of the Treasury, 1500 Pennsylvania Avenue NW., (Treasury Annex), Washington, DC 20220, Tel.: 202/622-2490.

SUPPLEMENTARY INFORMATION:

Electronic and Facsimile Availability

Information about these designations and additional information concerning OFAC are available from OFAC's Web site (http://www.treas.gov.ofac) or via facsimile through a 24-hour fax-on-demand service, Tel.: 202/622-0077.

Background

On October 18, 2007, the President signed Executive Order 13448 (the “Order”) pursuant to, inter alia, the International Emergency Economic Powers Act (50 U.S.C. 1701 et seq.). In the Order, the President took additional steps with respect to, and expanded, the national emergency declared in Executive Order 13047 of May 20, 1997, to address the Government of Burma's continued repression of the democratic opposition. The President identified twelve individuals and entities as subject to the economic sanctions in the Annex to the Order.

Section 1 of the Order blocks, with certain exceptions, all property and interests in property that are in, or hereafter come within, the United States, or with the possession or control of United States persons, of the persons listed in the Annex, as well as those persons determined by the Secretary of the Treasury, after consultation with the Secretary of State, to satisfy any of the criteria set forth in subparagraphs (b)(i)-(b)(vi) of section 1. On February 25, 2008, the Director of OFAC exercised the Secretary of the Treasury's authority to designate, pursuant to one or more of the criteria set forth in section 1, subparagraphs (b)(i)-(b)(vi) of the Order, the following two entities, whose names have been added to the list of Specially Designated Nationals and whose property and interests in property are blocked pursuant to Executive Order 13448:

1. AUREUM PALACE HOTELS AND RESORTS (a.k.a. AUREUEM PALACE HOTEL AND RESPORT (BAGAN); a.k.a. AUREUEM PALACE HOTEL AND RESORT (NGAPALI); a.k.a. AUREUM PALACE HOTEL AND RESORT (NGWE SAUNG); a.k.a. AUREUM PALACE HOTEL AND RESORT GROUP CO. LTD.; a.k.a. AUREUM PALACE HOTEL RESORT; a.k.a. AUREUM PALACE RESORTS; a.k.a. AUREUM PALACE RESORTS AND SPA), No. 41 Shwe Taung Gyar Street, Bahan Township, Yangon, Burma; Thandwe, Rakhine, Burma [BURMA]

2. MYANMAR TREASURE RESORTS (a.k.a. MYANMAR TREASURE BEACH RESORT; a.k.a. MYANMAR TREASURE BEACH RESORTS; a.k.a. MYANMAR TREASURE RESORT (BAGAN); a.k.a., MYANMAR TREASURE RESORT (PATHEIN); a.k.a. “MYANMAR TREASURE RESORT II”), No. 41 Shwe Taung Gyar Street, Bahan Township, Yangon, Burma; No 56 Shwe Taung Gyar Road, Golden Valley, Bahan Township, Yangon, Burma [BURMA]

Dated: February 25, 2008.
Adam J. Szubin,
Director, Office of Foreign Assets Control.

[FR Doc. 08-891 Filed 3-3-08; 8:45 am]

BILLING CODE 4811-42-M